DEPARTMENT OF HOMELAND SECURITY

Coast Guard

33 CFR Part 110

[Docket No. USCG-2008-1232]

RIN 1625-AA01

Anchorages; New and Revised Anchorages in the Captain of the Port Portland, OR, Area of Responsibility

AGENCY: Coast Guard, DHS.

ACTION: Final rule.

SUMMARY: The Coast Guard is establishing a new anchorage, modifying existing anchorages, and revising the regulations governing anchorages in the Captain of the Port Portland, Oregon, area of responsibility. These changes are necessary to ensure that there are sufficient anchorage opportunities in that area, and to clarify the locations of those anchorage opportunities. In addition, the changes will help prevent conflicts with navigable channels and other uses of anchorage waters.

DATES: This rule is effective November 9, 2009.

ADDRESSES: Comments and material received from the public, as well as documents mentioned in this preamble as being available in the docket, are part of docket USCG-2008-1232 and are available online by going to http://www.regulations.gov, inserting USCG-2008-1232 in the “Keyword” box, and clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail MST1 Jaime Sayers, Waterways Management Division, Coast Guard Sector Portland, telephone 503-240-9319, e-mail Jaime.A.Sayers@uscg.mil. If you have questions on viewing the docket, call Renee V. Wright, Program Manager, Docket Operations, telephone 202-366-9826.

SUPPLEMENTARY INFORMATION:

Regulatory Information

On May 26, 2009, we published a notice of proposed rulemaking (NPRM) entitled “Anchorages; New and Revised Anchorages in the Captain of the Port Portland, OR, Area of Responsibility” in the Federal Register (74 FR 24718). We received one comment on the proposed rule. There were no requests made for a public hearing regarding this rule and none was held. No other documents have been published for this rulemaking.

Background and Purpose

The establishment of a new anchorage, modification of existing anchorages, and revision of the regulations governing anchorages contained in this rule are necessary to ensure that there are sufficient anchorage opportunities in the Captain of the Port Portland, Oregon, area of responsibility, and ensure that the locations of those opportunities are clear. In addition, the changes will help prevent conflicts with navigable channels and other uses of anchorage waters. Currently, there are insufficient anchorage opportunities in the Captain of the Port Portland, Oregon, area of responsibility, and many of them conflict with navigable channels and other uses of the anchorage waters.

Discussion of Comments and Changes

The one comment made about this proposed rule explained that the changes being made are the result of a collaborative effort of the members of the Lower Columbia Region Harbor Safety Committee and that the Columbia River Bar Pilots fully support the rule as written. No changes were made as a result of this comment.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order. The establishment of a new anchorage, modification of existing anchorages, and revision of the regulations governing anchorages do not have any significant costs associated with them.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule would affect the following entities, some of which might be small entities: The owners or operators of vessels intending to transit or anchor in the Captain of the Port Portland, Oregon, area of responsibility. However, the establishment of a new anchorage, modification of existing anchorages, and revision of the regulations governing anchorages that result from this rule will have no economic impact on small entities because anchorages can still be transited and used for other maritime activities besides anchoring.

Assistance for Small Entities

Under section 213(a) of the Small Business Regulatory Enforcement Fairness Act of 1996 (Pub. L. 104-121), in the NPRM we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions which do not individually or cumulatively have a significant effect on the human environment. This rule is categorically excluded, under figure 2-1, paragraph (34)(f), of the Instruction. This rule involves the establishment of a new anchorage, modification of existing anchorages, and revision of regulations governing anchorages in the Captain of the Port Portland, Oregon, area of responsibility, which are categorically excluded under section 2.B.2 Figure 2-1, paragraph 34(f), of the Instruction. An environmental analysis checklist and categorical exclusion determination are available in the docket where indicated under ADDRESSES.

List of Subjects in 33 CFR Part 110

Anchorage grounds.

For the reasons discussed in the preamble, the Coast Guard amends 33 CFR part 110 as follows:

PART 110—ANCHORAGE REGULATIONS

1. The authority citation for part 110 continues to read as follows:

Authority: 33 U.S.C. 471, 1221 through 1236, 2030, 2035, 2071; 33 CFR 1.05-1; Department of Homeland Security Delegation No. 0170.1.

2. Revise § 110.228 to read as follows:

§ 110.228 Columbia River, Oregon and Washington.

(a) Anchorage grounds.—(1) Astoria North Anchorage. An area enclosed by a line beginning northeast of Astoria, Oregon, at latitude 46°12′00.79″ N, longitude 123°49′55.40″ W; thence continuing easterly to latitude 46°12′02.00″ N, longitude 123°49′40.09″ W; thence continuing east-northeasterly to latitude 46°13′14.85″ N, longitude 123°46′27.89″ W; thence continuing south-southeasterly to latitude 46°13′00.56″ N, longitude 123°46′16.65″ W; thence continuing southwesterly to latitude 46°11′51.79″ N, longitude 123°49′18.08″ W; thence continuing west-southwesterly to latitude 46°11′46.27″ N, longitude 123°49′43.48″ W; thence continuing west-southwesterly to latitude 46°11′44.98″ N, longitude 123°49′49.44″ W; thence continuing westerly to latitude 46°11′44.32″ N, longitude 123°49′58.88″ W; thence continuing northeasterly to the point of the beginning.

(2) Astoria South Anchorage. An area enclosed by a point beginning east-northeast of Astoria, Oregon, at latitude 46°11′46.95″ N, longitude 123°49′13.04″ W; thence continuing northeasterly to latitude 46°13′02.18″ N, longitude 123°45′54.55″ W; thence continuing easterly to latitude 46°13′05.90″ N, longitude 123°45′41.55″ W; thence continuing southeasterly to latitude 46°12′55.16″ N, longitude 123°45′34.31″ W; thence continuing southwesterly to latitude 46°12′24.32″ N, longitude 123°46′34.70″ W; thence continuing west-southwesterly to latitude 46°11′37.32″ N, longitude 123°49′03.46″ W; thence continuing north-northwesterly to the point of the beginning.

(3) Longview Anchorage. An area enclosed by a line beginning southeast of Longview, Washington, at latitude 46°06′28.69″ N, longitude 122°57′38.33″ W; thence continuing northwesterly to latitude 46°06′41.71″ N, longitude 122°58′01.25″ W; thence continuing westerly to latitude 46°07′22.55″ N, longitude 122°59′00.81″ W; thence continuing westerly to latitude 46°07′36.21″ N, longitude 122°59′19.29″ W; thence continuing southwesterly to latitude 46°07″28.44′ N, longitude 122°59′31.18″ W; thence continuing easterly to latitude 46°07′14.77″ N, longitude 122°59′12.70″ W; thence continuing easterly to latitude 46°06′42.01″ N, longitude 122°58′28.41″ W; thence continuing northeasterly to latitude 46°06′34.27″ N, longitude 122°58′14.21″ W; thence continuing northeasterly to latitude 46°06′32.19″ N, longitude 122°58′08.77″ W; thence continuing northeasterly to latitude 46°06′22.44″ N, longitude 122°57′43.27″ W; thence continuing northeasterly to the point of the beginning.

(4) Kalama Anchorage. An area to be enclosed by a line beginning north-northwesterly of Sandy Island at latitude 46°01′20.48″ N, longitude 122°52′04.32″ W; thence continuing east-southeasterly to latitude 46°00′57.73″ N, longitude 122°51′35.14″ W; thence continuing east-southeasterly to latitude 46°00′53.95″ N, longitude 122°51′30.29″ W; thence continuing southeasterly to latitude 46°00′35.10″ N, longitude 122°51′15.37″ W; thence continuing south-southeasterly to latitude 45°59′41.48″ N, longitude 122°50′52.40″ W; thence continuing southwesterly to latitude 45°59′38.65″ N, longitude 122°51′05.97″ W; thence continuing north-northwesterly to latitude 46°00′36.82″ N, longitude 122°51′45.44″ W; thence continuing west-northwesterly to latitude 46°01′24.38″ N, longitude 122°52′21.20″ W; thence continuing northeasterly to the beginning.

(5) Woodland Anchorage. An area enclosed by a line beginning northeast of Columbia City, Oregon, at latitude 45°53′55.31″ N, longitude 122°48′17.35″ W; thence continuing easterly to latitude 45°53′57.11″ N, longitude 122°48′02.16″ W; thence continuing south-southeasterly to latitude 45°53′21.16″ N, longitude 122°47′44.28″ W; thence continuing westerly to latitude 45°53′20.16″ N, longitude 122°48′02.37″ W; thence continuing northwesterly to latitude 45°53′41.50″ N, longitude 12°48′13.53″ W; thence continuing northerly to the point of beginning.

(6) Henrici Bar Anchorage. An area enclosed by a line beginning west-southwesterly of Bachelor Slough, Washington, at latitude 45°47′24.68″ N, longitude 122°46′49.14″ W; thence continuing east-southeasterly to latitude 45°46′44.95″ N, longitude 122°46′13.23″ W, thence continuing southeasterly to latitude 45°46′25.67″ N, longitude 122°46′00.54″ W; thence continuing south-southeasterly to latitude 45°46′02.69″ N, longitude 122°45′50.32″ W; thence continuing southerly to latitude 45°45′43.66″ N, longitude 122°45′45.33″ W; thence continuing southerly to latitude 45°45′37.52″ N, longitude 122°45′44.99″ W; thence continuing westerly to latitude 45°45′37.29″ N, longitude 122°45′53.06 W; thence continuing north-northwesterly to latitude 45°46′15.94″ N, longitude 122°46′10.25″ W; thence continuing west-northwesterly to latitude 45°47′20.20″ N, longitude 122°46′59.28″ W; thence continuing easterly to the point of beginning.

(7) Lower Vancouver Anchorage. An area enclosed by a line beginning north-northeast of Reeder Point at latitude 45°43′39.18″ N, longitude 122°45′27.54″ W; thence continuing south-southwesterly to latitude 45°41′26.95″ N, longitude 122°46′13.83″ W; thence continuing southerly to latitude 45°40′35.72″ N, longitude 122°46′09.98″ W; thence continuing south-southeasterly to latitude 45°40′23.95″ N, longitude 122°46′04.26″ W; thence continuing west-southwesterly to latitude 45°40′20.68″ N, longitude 122°46′16.07″ W; thence continuing northwesterly to latitude 45°40′32.85″ N, longitude 122°46′21.98″ W; thence continuing north-northwesterly to latitude 45°41′01.03″ N, longitude 122°46′26.85″ W; thence continuing northerly to latitude 45°41′29.07″ N, longitude 12°46′26.15″ W; thence continuing north-northeasterly to latitude 45°43′41.27″ N, longitude 122°45′39.87″ W; thence continuing easterly to the point of the beginning. The Vancouver lower anchorage will then resume slightly further upstream at an area north of Kelly point and will be enclosed by a line starting at latitude 45°40′10.09″ N, longitude 122°45′57.53′ W; thence continuing southeasterly to latitude 45°39′42.94″ N, longitude 122°45′44.34″ W; thence continuing west-southwesterly to latitude 45°39′40.07″ N, longitude 122°45′56.34″ W; thence continuing northwesterly to latitude 45°40′06.75″ N, longitude 122°46′09.30″ W; thence continuing east-northeasterly to the point of the beginning.

(8) Kelly Point Anchorage. An area enclosed by a line beginning northeast of Kelly Point, Oregon, at latitude 45°39′10.32″ N, longitude 122°45′36.45″ W; thence continuing east-southeasterly to latitude 45°39′02.10″ N, longitude 122°45′21.67″ W; thence continuing east-southeasterly to latitude 45°38′59.15″ N, longitude 122°45′16.38″ W; thence continuing southwesterly to latitude 45°38′51.03″ N, longitude 122°45′25.57″ W; thence continuing westerly to latitude 45°38′51.54″ N, longitude 122°45′26.35″ W; thence continuing northwesterly to latitude 45°39′06.27″ N, longitude 122°45′40.50″ W; thence continuing north-northeasterly to the beginning point.

(9) Upper Vancouver Anchorage. An area enclosed by a line beginning north-northeast of Hayden Island at latitude 45°38′43.44″ N, longitude 122°44′39.50″ W; thence continuing northeasterly to 45°38′26.98″ N, longitude 122°43′25.87″ W; thence continuing east-northeasterly to latitude 45°38′17.31″ N, longitude 122°42′54.69″ W; thence continuing easterly to latitude 45°38′12.40″ N, longitude 122°42′43.93″ W; thence continuing east-southeasterly to latitude 45°37′40.53″ N, longitude 122°41′44.08″ W; thence south-southeasterly to latitude 45°37′36.11″ N, longitude 122°41′48.86″ W; thence continuing west-southwesterly to latitude 45°37′52.20″ N, longitude 122°42′19.50″ W; thence continuing west-southwesterly to latitude 45°38′10.75″ N, longitude 122°43′08.89″ W; thence continuing southwesterly to latitude 45°38′18.79″ N, longitude 122°43′44.83″ W; thence continuing westerly to latitude 45°38′41.37″ N, longitude 122°44′40.44″ W; thence continuing northeasterly to the point of beginning.

(10) Cottonwood Island Anchorage. An area enclosed by a line beginning west-southwest of Longview, WA at latitude 46°05′56.88″ N, longitude 122°56′53.19″ W; thence continuing easterly to latitude 46°05′14.06″ N, longitude 122°54′45.71″ W; thence continuing east-southeasterly to latitude 46°04′57.12″ N, longitude 122°54′12.41″ W; thence continuing southeasterly to latitude 46°04′37.55″ N, longitude 122°53′45.80″ W; thence continuing southeasterly to latitude 46°04′13.72″ N, longitude 122°53′23.66″ W; thence continuing southeasterly to latitude 46°03′54.94″ N, longitude 122°53′11.81″ W; thence continuing southerly to latitude 46°03′34.96″ N, longitude 122°53′03.17″ W; thence continuing westerly to latitude 46°03′32.06″ N, longitude 122°53′19.68″ W; thence continuing north-northwesterly to latitude 46°03′50.84″ N, longitude 122°53′27.81″ W; thence continuing northwesterly to latitude 46°04′08.10″ N, longitude 122°53′38.70″ W; thence continuing northwesterly to latitude 46°04′29.41″ N, longitude 122°53′58.17″ W; thence continuing north-northwesterly to latitude 46°04′49.89″ N, longitude 122°54′21.57″ W; thence continuing northwesterly to latitude 46°05′06.95″ N, longitude 122°54′50.65″ W; thence continuing northwesterly to latitude 46°05′49.77″ N, longitude 122°56′ 58.12″ W; thence continuing east-northeasterly to the point of the beginning.

(b) Regulations.

(1) All designated anchorages are intended for the primary use of deep-draft vessels over 200 feet in length.

(2) If a vessel under 200 feet in length is anchored in a designated anchorage, the master or person in charge of the vessel shall:

(i) Ensure that the vessel is anchored so as to minimize conflict with large, deep-draft vessels utilizing or seeking to utilize the anchorage; and

(ii) Move the vessel out of the area if requested by the master of a large, deep-draft vessel seeking to enter or depart the area or if directed by the Captain of the Port.

(3) Vessels desiring to anchor in designated anchorages shall contact the pilot office that manages that anchorage to request an appropriate position to anchor. Columbia River Bar Pilots manage Astoria North Anchorage and Astoria South Anchorage. Columbia River Pilots manage all designated anchorages upriver from Astoria.

(4) No vessel may occupy a designated anchorage for more than 30 consecutive days without permission from the Captain of the Port.

(5) No vessel being laid-up or dismantled or undergoing major alterations or repairs may occupy a designated anchorage without permission from the Captain of the Port.

(6) No vessel carrying a Cargo of Particular Hazard listed in § 126.10 of this chapter may occupy a designated anchorage without permission from the Captain of the Port.

(7) No vessel in a condition such that it is likely to sink or otherwise become a hazard to the operation of other vessels shall occupy a designated anchorage except in an emergency and then only for such periods as may be authorized by the Captain of the Port.

(8) Vessels anchoring in Astoria North Anchorage should avoid placing their anchor in the charted cable area.

Dated: September 9, 2009.
G.T. Blore,
Rear Admiral, U.S. Coast Guard, Commander, Thirteenth Coast Guard District.

[FR Doc. E9-24317 Filed 10-7-09; 8:45 am]

BILLING CODE 4910-15-P